ENVIRONMENTAL PROTECTION AGENCY

40 CFR Part 52

[AZ 099-0039; FRL-7013-3]

Revisions to the Arizona State Implementation Plan, Pinal-Gila Counties Air Quality Control District and Pinal County Air Quality Control District

AGENCY: Environmental Protection Agency (EPA).

ACTION: Final rule.

SUMMARY: EPA is finalizing approval of recisions of Pinal-Gila Counties Air Pollution Control District (PGCAQCD) rules from the Arizona Department of Environmental Quality (ADEQ) portion (with respect to Gila County) and the Pinal County Air Pollution Control District (PCAQCD) portion of the Arizona State Implementation Plan (SIP). These revisions were proposed in the Federal Register on May 1, 2001.

EFFECTIVE DATE: This rule is effective on August 24, 2001.

ADDRESSES: You can inspect copies of the administrative record for this action at EPA's Region IX office during normal business hours. You can inspect copies of the submitted rule revisions at the following locations:

Environmental Protection Agency, Air Docket (6102), Ariel Rios Building, 1200 Pennsylvania Avenue, N.W., Washington, D.C. 20460.

Arizona Department of Environmental Quality, 3033 North Central Avenue, Phoenix, AZ 85012.

Pinal County Air Quality Control District, Building F, 31 North Pinal Street, Florence, AZ 85232.

FOR FURTHER INFORMATION CONTACT: Al Petersen, Rulemaking Office (AIR-4), Air Division, U.S. Environmental Protection Agency, Region IX, 75 Hawthorne Street, San Francisco, CA 94105; (415) 744-1135.

SUPPLEMENTARY INFORMATION: Throughout this document, “we,” “us” and “our” refer to EPA.

I. Proposed Action

On May 1, 2001 (66 FR 21675), EPA published a direct final approval to rescind PGCAQCD rules in tables 1 through 6 from the Arizona SIP. We received adverse comments on this action and withdrew the direct final approval on June 20, 2001 (66 FR 33029). On May 1, 2001 (66 FR 21727), EPA also published a proposal notice to rescind these SIP rules. Today's action addresses the comments and finalizes the proposed approval to rescind the SIP rules.

The PGCAQCD SIP rules in table 7 were submitted by ADEQ for recision but are already rescinded in previous actions with respect to both Gila County and PCAQCD. These rules are listed in table 7 for clarity only, and we will take no further action on them.

Table 1.—PGCAQCD Rules (Previously Submitted on July 1, 1975, Approved on November 15, 1978, 43 FR 53031) for Rescission with Respect to Both Gila County and PCAQCD
PGCAQCD SIP rule number | Rule title | Replacement ADEQ SIP rule number | Replacement PCAQCD SIP rule number
7-1-1.1 | Policy and Legal Authority | (Note 1) | (Note 1)
7-1-1.3 | Air Pollution Prohibited | (Note 1) | (Note 1)
7-1-2.5(A) | Permits: Transfer | R9-3-317 | 3-1-090
7-1-2.5(B) | Permits: Expiration | R9-3-306 | 3-1-089
7-1-2.5(C) | Permits: Posting | R9-3-315 | (Note 1)
7-1-2.6 | Recordkeeping and Reporting | R9-3-308, R9-3-314 | 3-1-103, 3-1-170
7-2-1.1 | Non-Specific Particulate | R9-3-201 | 2-1-020
7-2-1.2 | Sulfur Dioxide | R9-3-202 (Note 2) | 2-1-030
7-2-1.4 | Photochemical Oxidants | R9-3-204 | 2-1-040
7-2-1.5 | Carbon Monoxide | R9-3-205 | 2-1-050
7-2-1.6 | Nitrogen Dioxide | R9-3-206 | 2-1-060
7-2-1.7 | Evaluation | R9-3-216 | 2-3-110
7-3-1.6 | Reduction of Animal or Vegetable Matter | (Note 1) | (Note 1)

Table 2.—PGCAQCD Rules (Previously Submitted on July 1, 1975, Approved on December 17, 1979, 44 FR 73033) for Rescission with Respect to Both Gila County and PCAQCD
PGCAQCD SIP rule number | Rule title | Replacement ADEQ SIP rule number | Replacement PCAQCD SIP rule number
7-2-1.8 | Anti-Degradation | (Note 1) | (Note 1)

Table 3.—PGCAQCD Rules (Previously Submitted on August 7, 1980, Approved on April 12, 1982, 47 FR 15580) for Rescission with Respect to Both Gila County and PCAQCD
PGCAQCD SIP rule number | Rule title | Replacement ADEQ SIP rule number | Replacement PCAQCD SIP rule number
7-1-1.2 | Definitions | R9-3-101 | 1-3-140
7-1-1.3(C) | Air Pollution Prohibited | (Note 1) | (Note 1)

Table 4.—PGCAQCD Rules (Previously Submitted on July 1, 1975, Approved on November 15, 1978, 43 FR 53031 for Rescission with Respect to Both Gila County Only
PGCAQCD SIP rule number | Rule title | Replacement ADEQ SIP rule number | Replacement PCAQCD SIP rule number
7-3-1.2(A) | Fugitive Dust | R9-3-404 | None
7-3-1.2(B) | Fugitive Dust | R9-3-405 | None
7-3-1.2(C) | Fugitive Dust | R9-3-405 | None
7-3-1.2(D) | Fugitive Dust | R9-3-406 | None
7-3-1.2(E) | Fugitive Dust | R9-3-409 | None
7-3-1.3 | Open Burning | (Note 2) | None
7-3-1.4 | Incineration | (Note 2) | None
7-3-1.5 | Wood Waste Burners | R9-3-504 | None
7-3-1.7 | Particulate Emissions—Fuel Burning Equipment | R9-3-503 | None
7-3-1.8 | Process Industries | R9-3-502 | None
7-3-2.2 | Fuel Burning Installations | R9-3-503 | None
7-3-2.3 | Sulfite Pulp Mills | (Note 2) | None
7-3-2.4 | Sulfuric Acid Plants | R9-3-507 | None
7-3-3.1 | Storage of Volatile Organic Compounds | R9-3-510 | None
7-3-3.2 | Loading of Volatile Organic Compounds | R9-3-510 | None
7-3-3.3 | Pumps and Compressors | R9-3-510 | None
7-3-4.1 | Emission Standards—Carbon Monoxide from Stationary Sources: Industrial | R9-3-502 | None
7-3-5.1 | Emission Standards—Nitrogen Oxides: Fuel Burning Equipment | R9-3-503 | None
7-3-5.2 | Nitric Acid Plants | R9-3-506 | None

Table 5.—PGCAQCD Rule (Previously Submitted on July 1, 1975, Approved on December 17, 1979, 44 FR 73033) for Rescission with Respect to Gila County Only
PGCAQCD SIP rule number | Rule title | Replacement ADEQ SIP rule number | Replacement PCAQCD SIP rule number
7-3-2.5 | Other Industries | (Note 2) | None

Table 6.—PGCAQCD Rule (Previously Submitted on August 7, 1980, Approved on April 12, 1982, 47 FR 15580) for Rescission with Respect to Gila County Only
PGCAQCD SIP rule number | Rule title | Replacement ADEQ SIP rule number | Replacement PCAQCD SIP rule number
7-3-1.1 | Visible Emissions: General | R9-3-501 | None
7-3-1.4(C) | Incineration | (Note 2) | None
7-3-1.7(F) | Particulate Emissions—Fuel Burning Equipment | R9-3-503 | None
7-3-3.4(A) | Organic Solvents | R9-3-101 | None
7-3-3.4(B) | Organic Solvents | R9-3-502 | None
7-3-3.4(C) | Organic Solvents | R9-3-525 | None
7-3-3.4(D) | Organic Solvents | R9-3-527 | None
7-3-3.4(E) | Organic Solvents | R9-3-502 | None
7-3-3.4(F) | Organic Solvents | R9-3-502 | None
7-3-3.4(G) | Organic Solvents | R9-3-502 | None
7-3-3.4(H) | Organic Solvents | (Note 1) | None
7-3-3.4(I) | Organic Solvents | R9-3-101 | None
7-3-3.4(J) | Organic Solvents | R9-3-502 | None

Table 7.—PGCAQCD Rules Submitted for Rescission but Already Rescinded with Respect to Both Gila County and PCAQCD
PGCAQCD SIP rule number | Rule title | Recision reference
7-1-2.2 | Permit Unit Description and Fees | (Note 3)
7-1-2.4 | Appeals to Hearing Board | (Note 3)
7-1-2.7 | Enforcement | (Note 3)
7-1-4.1 | Violations: Orders of Abatement | (Note 4)
7-1-4.2 | Hearings on Orders of Abatement | (Note 4)
7-1-5.1 | Classification and Reporting; Production of Records; Confidentiality of Records; Violation; Penalty | (Note 4)
7-1-5.2 | Special Inspection Warrant | (Note 4)
7-1-5.3 | Decisions of Hearing Board; Subpoenas; Effective Date | (Note 4)
7-1-5.4 | Judicial Review; Grounds; Procedures | (Note 4)
7-1-5.5 | Notice of Hearing; Publication; Service | (Note 4)
7-1-5.6 | Injunctive Relief | (Note 4)
7-2-1.3 | Non-Methane Hydrocarbons | (Note 3)
7-3-6.1 | Major Sources: Policy and Legal Authority | (Note 3)

Note 1: Designates a rule determined by EPA to be not appropriate for inclusion in the SIP, because it is unenforceable, or replaced by a federal standard, or refers to a non-criteria pollutant, or refers to local procedural matters, such as those concerning assessment of fees, enforcement, and local hearing board procedures.

Note 2: Designates a rule without an exact parallel ADEQ SIP rule or PCAQCD SIP rule, for which information was provided by the ADEQ to show that rescinding the PGCAQCD rule would not conflict with section 110(l) of the CAA.

Note 3: 40 CFR 52.120(c)(18)(iv)(B).

Note 4: 40 CFR 52.120(c)(18)(iv)(A).

We proposed to rescind these PGCAQCD rules because the local agency no longer exists and we determined that their rescission complied with the relevant CAA requirements.

II. Public Comments and EPA Responses

EPA's proposed action provided a 30-day public comment period. During this period, we received comments from the following parties.

• Don Gabrielson, PCAQCD; letter dated May 30, 2001 and received May 31, 2001.

• Bruce Friedl, ADEQ; phone call on May 10, 2001.

The PCAQCD comments and our responses are summarized below.

Comment I: PCAQCD notes that in table 1 the numerical references in the PCAQCD column do not correspond to rule numbers.

Response: PCAQCD rule numbers contained typographical errors, and the correct PCAQCD rule numbers are provided in table 1 of today's action. The PCAQCD successor rules listed in table 1 are not being proposed for SIP approval, since they are already SIP-approved rules. These rules are listed as successor rules for the purpose of justifying the rescission of PGCAQCD rules in the PCAQCD pursuant to section 110(l) of the CAA.

Comment II: PCAQCD notes that in tables 1 and 3, the proposed approval of PCAQCD Rules 2-3-110 and 1-3-140 as SIP elements does not specify adoption or submittal dates for the underlying rules.

Response: The adoption dates for all of the SIP-approved PCAQCD rules in tables 1 and 3 are provided in 65 FR 79742 (December 20, 2000) or in 40 CFR 52.120(c)(18)(iv) (B, C, or D). Also see response to comment I.

Comment III: PCAQCD notes that in Table 6, regarding PGCAQCD Rule 7-3-3.4, no action is being proposed except for the objectionable rescission of the exception spelled out in Rule 7-3-3.4(H). Deleting section (H) will effectively expand the scope of the remaining SIP-approved provisions of Rule 7-3-3.4. While PCAQCD has put forth specific proposals regarding modifying and partially rescinding Rule 7-3-3.4 as a SIP element, those proposals did not in any way ask for a county-wide expansion of the applicability of Rule 7-3-3.4. Therefore, we must object to the proposed rescission from the PCAQCD portion of the Arizona SIP of Rule 7-3-3.4(H).

Response: EPA is rescinding Rule 7-3-3.4 with respect to Gila County only and is not rescinding Rule 7-3-3.4(H) or any other part of Rule 7-3-3.4 with respect to PCAQCD in today's action.

The ADEQ comments and our responses are summarized below.

Comment I: ADEQ notes that in table 1, ADEQ Rule R9-3-206 should be used to justify the rescission of PGCAQCD Rule 7-2-1.6.

Response: EPA concurs, and ADEQ Rule R9-3-206 is used.

Comment II: ADEQ questions why PGCAQCD Rules 7-3-1.1, 7-3-1.3, 7-3-1.8, and 7-3-4.1 are not being rescinded with respect to PCAQCD.

Response: The cited PGCAQCD rules are being rescinded with respect to PCAQCD in a separate action that simultaneously approves PCAQCD replacement rules into the PCAQCD portion of the Arizona SIP.

III. EPA Action

No comments were submitted that change our assessment that the rescission of the rules complies with the relevant CAA requirements. Therefore, as authorized in section 110(k)(3) of the Act, EPA is fully approving the rescission of these rules from the Arizona SIP with respect to both Gila County and PCAQCD or with respect to Gila County only, as designated in tables 1 through 6.

IV. Administrative Requirements

Under Executive Order 12866 (58 FR 51735, October 4, 1993), this action is not a “significant regulatory action” and therefore is not subject to review by the Office of Management and Budget. For this reason, this action is also not subject to Executive Order 32111, “Actions Concerning Regulations That Significantly Affect Energy Supply, Distribution, or Use” (66 FR 28355, May 22, 2001). This action merely approves state law as meeting federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4). This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely approves a state rule implementing a federal standard, and does not alter the relationship or the distribution of power and responsibilities established in the Clean Air Act. This rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. section 804(2).

Under section 307(b)(1) of the Clean Air Act, petitions for judicial review of this action must be filed in the United States Court of Appeals for the appropriate circuit by September 24, 2001. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Intergovernmental relations, Nitrogen dioxide, Ozone, Particulate matter, Reporting and recordkeeping requirements, Volatile organic compounds.

Authority: 42 U.S.C. 7401 et seq.

Dated: July 5, 2001.
Jane Diamond,
Acting Regional Administrator, Region IX.

Part 52, chapter I, title 40 of the Code of Federal Regulations is amended as follows:

PART 52—[AMENDED]

1. The authority citation for part 52 continues to read as follows:

Authority: 42 U.S.C. 7401 et seq.

Subpart D—Arizona

2. Section 52.120 is amended by adding paragraphs (c)(18)(iv)(D), (c)(18)(iv)(E), (c)(18)(iv)(F), (c)(18)(iv)(G), (c)(46)(i)(B), and (c)(46)(i)(C) to read as follows:

§ 52.120 Identification of plan.

* * * * *

(c) * * *

(18) * * *

(iv) * * *

(D) Previously approved on November 15, 1978 in paragraph (c)(18)(iv) of this section and now deleted without replacement Rules 7-1-1.1, 7-1-1.3, 7-1-2.5, 7-1-2.6, 7-2-1.1, 7-2-1.2, 7-2-1.4, 7-2-1.5, 7-2-1.6, 7-2-1.7, and 7-3-1.6.

(E) Previously approved on December 17, 1979 in paragraph (c)(18)(iv) of this section and now deleted without replacement Rule 7-2-1.8.

(F) Previously approved on November 15, 1978 in paragraph (c)(18)(iv) of this section and now deleted without replacement with respect to Gila County only Rules 7-3-1.2, 7-3-1.3, 7-3-1.4, 7-3-1.5, 7-3-1.7, 7-3-1.8, 7-3-2.2, 7-3-2.3, 7-3-2.4, 7-3-3.1, 7-3-3.2, 7-3-3.3, 7-3-4.1, 7-3-5.1, and 7-3-5.2.

(G) Previously approved on December 17, 1979 in paragraph (c)(18)(iv) of this section and now deleted without replacement with respect to Gila County only Rule 7-3-2.5.

* * * * *

(46) * * *

(i) * * *

(B) Previously approved on April 12, 1982 in paragraph (c)(46)(i)(A) of this section and now deleted without replacement Rules 7-1-1.2 and 7-1-1.3(C).

(C) Previously approved on April 12, 1982 in paragraph (c)(46)(i)(A) of this section and now deleted without replacement with respect to Gila County only Rules 7-3-1.1, 7-3-1.4(C), 7-3-1.7(F), and 7-3-3.4.

* * * * *

[FR Doc. 01-18410 Filed 7-24-01; 8:45 am]

BILLING CODE 6560-50-P